DEPARTMENT OF LABOR

Employment and Training Administration

[TA-W-51,880]

InFocus Corporation, Formerly InFocus Systems, Inc., Including Temporary Workers of Adecco Staffing, Wilsonville, OR; Amended Certification Regarding Eligibility To Apply for Worker Adjustment Assistance

In accordance with section 223 of the Trade Act of 1974 (19 U.S.C. 2273) the Department of Labor issued a Certification of Eligibility to Apply for Worker Adjustment Assistance on June 24, 2003, applicable to workers of InFocus Corporation, formerly InFocus Systems, Inc., Wilsonville, Oregon. The notice was published in the Federal Register on July 10, 2003 (68 FR 41180).

At the request of the State agency, the Department reviewed the certification for workers of the subject firm. New information shows that temporary workers of Adecco Staffing were employed at InFocus Corporation, formerly InFocus Systems, Inc. at the Wilsonville, Oregon location of the subject firm.

Based on these findings, the Department is amending this certification to include temporary workers of Adecco Staffing working at InFocus Corporation, formerly InFocus Systems, Inc., Wilsonville, Oregon.

The intent of the Department's certification is to include all workers employed at InFocus Corporation, formerly InFocus Systems, Inc., who were adversely affected by a shift in production to Malaysia.

The amended notice applicable to TA-W-51,880 is hereby issued as follows:

All workers of InFocus Corporation, formerly InFocus Systems, Inc., including temporary workers of Adecco Staffing, Wilsonville, Oregon, who became totally or partially separated from employment on or after May 8, 2002, through June 24, 2005, are eligible to apply for adjustment assistance under section 223 of the Trade Act of 1974.

Signed in Washington, DC this 11th day of February, 2004.
Linda G. Poole,
Certifying Officer, Division of Trade Adjustment Assistance.

[FR Doc. 04-4968 Filed 3-4-04; 8:45 am]

BILLING CODE 4510-30-P